DEPARTMENT OF DEFENSE

Department of the Army

Final Environmental Impact Statement for Short-Term Projects and Real Property Master Plan Update for Fort Belvoir, VA

AGENCY: Department of the Army, DoD.

ACTION: Notice of availability.

SUMMARY: The Department of the Army announces the availability of the Final Environmental Impact Statement (FEIS) for the proposed update of the Real Property Master Plan (RPMP) for Fort Belvoir, VA, which includes proposed short-term projects and long-term development. In accordance with the National Environmental Policy Act (NEPA), the FEIS analyzes the environmental impacts associated with the proposed short-term projects, long-term development, and anticipated land use changes designated in an updated RPMP. The short-term projects are proposed for implementation through 2017. The long-term development projects, which currently are not fully defined, are proposed for implementation between 2018 and 2030. The FEIS assesses potential environmental impacts associated with future development and management of land, facilities, resources and infrastructure based on the population capacity identified in the updated RPMP. The only area for which significant adverse impacts are identified is traffic and transportation. The updated RPMP incorporates adjustments to the land use plan in the RPMP that were made in the Final EIS for the Implementation of Base Realignment and Closure (BRAC) Recommendations and Related Army Actions at Fort Belvoir, VA (2007) and BRAC-related changes made since 2007.

DATES: The FEIS will be available for 30 days following publication of the NOA in the Federal Register by the U.S. Environmental Protection Agency.

ADDRESSES: A copy of the FEIS may be obtained by contacting: Fort Belvoir Directorate of Public Works at Environmental and Natural Resources Division, Re: Real Property Master Plan EIS, 9430 Jackson Loop, Suite 200, Fort Belvoir, VA 22060-5116; or by email to imcom.fortbelvoir.dpw.environmental@us.army.mil. The FEIS can be viewed at the following Web site: https://www.belvoir.army.mil/environdocssection9.asp.

FOR FURTHER INFORMATION CONTACT: Please contact Fort Belvoir Directorate of Public Works, Environmental and Natural Resources Division, at 703-806-3193 or 703-806-0020, during normal working business hours Monday through Friday, 8 a.m. to 4:00 p.m.; or by email to imcom.fortbelvoir.dpw.environmental@us.army.mil.

SUPPLEMENTARY INFORMATION: The RPMP and the FEIS focus on Fort Belvoir's Main Post (7,700 acres) and the Fort Belvoir North Area (800 acres, formerly called the Engineer Proving Ground). The RPMP update does not cover Fort Belvoir property at Rivanna Station in Charlottesville, VA; the Mark Center in Alexandria, VA; or the Humphreys Engineer Center, adjacent to Main Post.

The FEIS analyzes the environmental impacts of the short-term projects currently programmed for construction through 2017. These projects include new office buildings, community and recreational facilities, a Fisher House (provides free or low cost lodging to veterans and military families receiving treatment at military medical centers), industrial and maintenance facilities, roads, a new gate, and the National Museum of the U.S. Army.

The Army is also updating its RPMP for Fort Belvoir by analyzing the off-post and on-post environmental impacts of reasonably foreseeable future development and management of real property (land uses, facilities, resources, infrastructure, and population capacity). The FEIS assesses the potential direct, indirect, and cumulative environmental impacts associated with updating the RPMP to meet the Army's current and future planning needs. Additional site-specific NEPA analyses will be prepared for the long-term projects identified in the RPMP, as appropriate.

Four alternatives are analyzed in the FEIS: No Action, Full Implementation, Modified Long-Term, and Modified Short-Term. The alternatives reflect various scenarios for short-term and long-term development. Other alternatives are briefly considered in the FEIS but were determined not to require further analysis.

(1) The No Action Alternative proposes maintaining the current conditions and not proceeding with any new short-term projects or long-term development. The approved 1993 RPMP (as amended in the 2007 BRAC EIS) would remain in effect.

(2) The Full Implementation Alternative (the Preferred Alternative) proposes implementing the revised RPMP, all short-term projects, and all long-term projects.

(3) The Modified Long-Term Alternative proposes implementing the revised RPMP, all but two short-term projects proposed under the Full Implementation Alternative, and all but one of the long-term projects proposed under the Full Implementation Alternative.

(4) The Modified Short-Term Alternative proposes implementing the revised RPMP, most of the short-term projects, and all of the long-term projects. Construction of most of the short-term projects proposed under the Full Implementation Alternative would be delayed until after 2017.

The FEIS evaluates the impacts of the alternatives on land use; socioeconomics, community facilities, and environmental justice; cultural resources; transportation and traffic; air quality; noise; geology, topography, and soils; water resources; biological resources; hazardous materials; utilities; and energy use and sustainability. The only resource that could sustain significant adverse impacts is transportation and traffic; impacts would be significant under all three action alternatives. The RPMP would include short-term and long-term transportation projects. As development is proposed for Fort Belvoir, appropriate transportation measures would be identified from those in the RPMP, as well as any appropriate site-specific mitigation measures. While no significant adverse impacts are expected on biological or water resources, mitigations are proposed for tree removal for certain projects and for cumulative impacts.

Comments received on the Draft Environmental Impact Statement (DEIS) are addressed in the FEIS. Changes made to the text of the DEIS include factual corrections and minor additions or edits only. No substantive changes to the alternatives considered or the findings of the impact analysis were required or made.

Brenda S. Bowen,
Army Federal Register Liaison Officer.

[FR Doc. 2015-23601 Filed 9-21-15; 8:45 am]

BILLING CODE 3710-08-P